DEPARTMENT OF THE INTERIOR

National Park Service

[NPS-WASO-NRNHL-24228; PPWOCRADI0, PCU00RP14.R50000]

National Register of Historic Places; Notification of Pending Nominations and Related Actions

AGENCY: National Park Service, Interior.

ACTION: Notice.

SUMMARY: The National Park Service is soliciting comments on the significance of properties nominated before September 23, 2017, for listing or related actions in the National Register of Historic Places.

DATES: Comments should be submitted by November 13, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before September 23, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

NEW JERSEY

Ocean County

Hubbard, L. Ron, House, 666 East Ave., Bay Head Borough, SG100001777

Sussex County

Erickson Lakeside Cabin, 103 Lakeside Dr., Lake Wallkill, SG100001778

RHODE ISLAND

Providence County

Angell, Otis, Gristmill, 1 Governor Notte Pkwy., North Providence, SG100001779

Woonsocket Senior High and Junior High Schools, 357 Park Place, Woonsocket, SG100001780

SOUTH DAKOTA

Lawrence County

Spearfish Historic Commercial District (Boundary Decrease), Various, Spearfish, BC100001782

WISCONSIN

Dane County

Maple Bluff Boy Scout Cabin, 296 Woodland Cir., Maple Bluff, SG100001783

Jefferson County

Palmyra Boy Scout Cabin, 105 N. 1st St., Palmyra, SG100001784

Sheboygan County

Atlanta (steam screw) Shipwreck, 1.02 mi. NNE. of Amsterdam Park boat launch in L. Michigan, Cedar Grove vicinity, SG100001785

A request for removal has been made for the following resource(s):

SOUTH DAKOTA

Edmunds County

Eisenbeis, John, House, (German-Russian Folk Architecture TR), Address Restricted, Bowdle vicinity, OT84003283

Nominations submitted by Federal Preservation Officers:

The State Historic Preservation Officer reviewed the following nomination and responded to the Federal Preservation Officer within 45 days of receipt of the nomination and supports listing the property in the National Register of Historic Places.

ALASKA

Kenai Peninsula Borough

Tuxedni Bay Pictograph Site, Address Restricted, Port Alsworth vicinity, SG100001776

Authority: 60.13 of 36 CFR part 60.

Dated: September 28, 2017.
J. Paul Loether,
Chief, National Register of Historic Places/National Historic Landmarks Program and Keeper, National Register of Historic Places.

[FR Doc. 2017-23330 Filed 10-25-17; 8:45 am]

BILLING CODE 4312-52-P